FEDERAL ELECTION COMMISSION

Sunshine Act Notice

AGENCY: Federal Election Commission.

DATE and TIME: Wednesday, May 6, 2015 AT 2:00 p.m.

PLACE: 999 E Street NW., Washington, DC (Ninth Floor).

STATUS: This hearing will be open to the public.

ITEM TO BE DISCUSSED: Audit Hearing: Gary Johnson 2012, Inc.

Individuals who plan to attend and require special assistance, such as sign language interpretation or other reasonable accommodations, should contact Shawn Woodhead Werth, Secretary, at (202) 694-1040, at least 72 hours prior to the hearing date.

PERSON TO CONTACT FOR INFORMATION: Judith Ingram, Press Officer, Telephone: (202) 694-1220.

Shawn Woodhead Werth,
Secretary and Clerk of the Commission.

[FR Doc. 2015-10339 Filed 4-29-15; 4:15 pm]

BILLING CODE 6715-01-P